DEPARTMENT OF JUSTICE

Notice of Lodging of Consent Decree Under Comprehensive Environmental Response, Compensation and Liability Act

In accordance with Departmental policy, 28 CFR 50.7, notice is hereby given that on April 6, 2005, a proposed Consent Decree in United States v. Sequa Corporation and John H. Thompson (E.D.Pa.), C.A. No. 2:05-cv-01580-TON, was lodged with the United States District Court for the Eastern District of Pennsylvania.

In this action, the United States sought response costs incurred and to be incurred by the Environmental Protection Agency (“EPA”), pursuant to section 107 of the Comprehensive Environmental Response, Compensation and Liability Act, as amended (“CERCLA”), 42 U.S.C. 9607, in connection the Dublin TCE Site, located in Bucks County, Pennsylvania. Further, the United States sought an order, pursuant to section 106 of CERCLA, requiring defendants to implement remedial measures to address groundwater contamination at the Site.

Under the Consent Decree, defendants will implement the remedial measures required under the terms of the Consent Decree to address groundwater contamination. The Consent Decree provides, inter alia, that defendants will initially address groundwater contamination at the Site by implementing a technology known as in-situ chemical oxidation (“ISCO”), which is described in the Consent Decree and an attachment thereto. Defendants will implement other specified remedial measures, if EPA determines after a period of implementation that the ISCO has failed or will fail. In addition, defendants will pay EPA's unreimbursed past response costs in the amount of $252,254 and will pay future costs incurred by EPA in connection with the Site.

The Department of Justice will receive, for a period of 30 days from the date of this publication, comments relating to the proposed Consent Decree. Comments should be addressed to the Acting Assistant Attorney General for the Environment and Natural Resources Division, PO Box 7611, U.S. Department of Justice, Washington, DC 20044-7611, and should refer to United States v. Sequa Corporation and John H. Thompson, DOJ Ref. No. 90-11-2-780/1.

The proposed Consent Decree may be examined at the Office of the United States Attorney, 615 Chestnut Street, Suite 1250, Philadelphia, PA 19106; and U.S. EPA Region 3, 1650 Arch Street, Philadelphia, Pennsylvania 19103. During the public comment period, the proposed Consent Decree may also be examined on the following Department of Justice Web site, http://www.usdoj.gov/enrd/open.html. A copy of the proposed Consent Decree may be obtained by mail from the Consent Decree Library, PO Box 7611, U.S. Department of Justice, Washington, DC 20044-7611 or by faxing or e-mailing a request to Tonia Fleetwood (tonia.fleetwood@usdoj.gov), fax number (202) 514-0097, phone confirmation number (202) 514-1547. In requesting a copy of the Consent Decree only from the Consent Decree Library, please enclose a check in the amount of $22.50, or enclose a check in the amount of $53.00 for the Consent Decree and the Attachments thereto (.25 cents per page reproduction costs), payable to the U.S. Treasury.

Robert D. Brook,
Assistant Section Chief, Environmental Enforcement Section, Environment and Natural Resources Division.

[FR Doc. 05-8478 Filed 4-27-05; 8:45 am]

BILLING CODE 4410-15-M